DEPARTMENT OF ENERGY

Federal Energy Regulatory Commission

[Project No. 14510-001]

FFP Project 124, LLC; Notice of Intent To File License Application, Filing of Pre-Application Document, Approving Use of the Traditional Licensing Process

a. Type of Filing: Notice of Intent to File License Application and Request to Use the Traditional Licensing Process.

b. Project No.: 14510-001.

c. Date Filed: August 24, 2016.

d. Submitted By: FFP Project 124, LLC.

e. Name of Project: Red River Lock and Dam No. 1 Hydroelectric Project.

f. Location: On the Red River, at the U.S. Army Corps of Engineers' Red River Lock and Dam No. 1, near the Town of Marksville in Catahoula Parish, Louisiana.

g. Filed Pursuant to: 18 CFR 5.3 of the Commission's regulations.

h. Potential Applicant Contact: Erik Steimle, Vice President, Development, Rye Development, LLC, 745 Atlantic Avenue, 8th Floor, Boston, MA 02111; (617) 701-3288; email—erik@ryedevelopment.com.

i. FERC Contact: Allan Creamer at (202) 502-8365; or email at allan.creamer@ferc.gov.

j. FFP Project 124, LLC filed its request to use the Traditional Licensing Process on August 24, 2016. FFP Project 124, LLC provided public notice of its request on October 20, 2016. In a letter dated October 26, 2016, the Director of the Division of Hydropower Licensing approved FFP Project 124, LLC's request to use the Traditional Licensing Process.

k. With this notice, we are initiating informal consultation with the U.S. Fish and Wildlife Service and/or NOAA Fisheries under section 7 of the Endangered Species Act and the joint agency regulations thereunder at 50 CFR, Part 402; and NOAA Fisheries under section 305(b) of the Magnuson-Stevens Fishery Conservation and Management Act and implementing regulations at 50 CFR 600.920. We are also initiating consultation with the Louisiana State Historic Preservation Officer, as required by section 106, National Historic Preservation Act, and the implementing regulations of the Advisory Council on Historic Preservation at 36 CFR 800.2.

l. With this notice, we are designating FFP Project 124, LLC as the Commission's non-federal representative for carrying out informal consultation pursuant to section 7 of the Endangered Species Act and section 305(b) of the Magnuson-Stevens Fishery Conservation and Management Act; and consultation pursuant to section 106 of the National Historic Preservation Act.

m. FFP Project 124, LLC filed a Pre-Application Document (PAD; including a proposed process plan and schedule) with the Commission, pursuant to 18 CFR 5.6 of the Commission's regulations.

n. A copy of the PAD is available for review at the Commission in the Public Reference Room or may be viewed on the Commission's Web site (http://www.ferc.gov), using the “eLibrary” link. Enter the docket number, excluding the last three digits in the docket number field, to access the document. For assistance, contact FERC Online Support at FERCOnlineSupport@ferc.gov, (866) 208-3676 (toll free), or (202) 502-8659 (TTY). A copy is also available for inspection and reproduction at the address in paragraph h.

o. Register online at http://www.ferc.gov/docs-filing/esubscription.asp to be notified via email of new filing and issuances related to this or other pending projects. For assistance, contact FERC Online Support.

Dated: October 26, 2016.
Nathaniel J. Davis, Sr.,
Deputy Secretary.

[FR Doc. 2016-26591 Filed 11-2-16; 8:45 am]

BILLING CODE 6717-01-P